FEDERAL TRADE COMMISSION

Granting of Request for Early Termination of the Waiting Period under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—06/25/2001
20011821 | Apollo Investment Fund IV, L.P. | 1992 Durwood, Inc. Voting Trust | AMC Entertainment, Inc.
20011975 | W.C. Bradley Co. | Brunswick Corporation | Zebco Corporation.
20011996 | Legg Mason, Inc. | Private Capital Management. L.P. | Private Capital Management, L.P.
20011998 | Brafin S.a.p.a | Acist Medical Systems | Acist Medical Systems.
20012004 | EdperPartners Limited | Enterprise Reinsurance Holdings Corporation | Enterprise Reinsurance Holdings Corporation.
20012011 | Grupo Grifols, S.A. | SeraCare, Inc. | SeraCare, Inc.
TRANSACTIONS GRANTED EARLY TERMINATION—06/26/2001
20011958 | Credence Systems Corporation | Integrated Measurement Systems, Inc. | Integrated Measurement Systems, Inc.
20011983 | N.V. Bekaert S.A. | Material Sciences Corporation | Innovative Specialty Films LLC.
|  |  | MSC Specialty Films, Inc.
TRANSACTIONS GRANTED EARLY TERMINATION—06/27/2001
20011933 | Suez | Brambles Industries Limited | Ensco Caribe, Inc.
|  |  | Ensco West, Inc.
|  |  | Ensco, Inc.
|  |  | Environmental Systems Company.
|  |  | MSE Environmental, Inc.
20011952 | Dennis M. Langley | Utilicorp United, Inc. | UtiliCorp Pipeline Systems, Inc.
20011955 | Inhale Therapeutic Systems, Inc. | Shearwater Corporation | Shearwater Corporation.
20011957 | NextMedia Investors LLC | PNE Media Holdings, LLC | Chesapeake Outdoor Enterprises, Inc.
|  |  | Crickett, Ltd.
|  |  | PNE Media, LLC.
20011980 | Fiserv, Inc. | EPSIIA Corporation | EPSIIA Corporation.
20011988 | Allianz Aktiengesellschaft | Dresdner Bank AG | Dresdner Bank AG.
20011991 | Gary C. Wendt | Conseco, Inc. | Conseco, Inc.
20011994 | Aventis S.A. | E.ON AG | ASTA Medica AG.
20011997 | Deere & Company | Richton International Corporation | Richton International Corporation.
20012007 | TMP Worldwide Inc. | Decision Point Data, Inc. d/b/a Unicru, Inc. | Decision Point Data, Inc. d/b/a Unicru, Inc.
TRANSACTIONS GRANTED EARLY TERMINATION—06/28/2001
20011911 | Technitrol, Inc. | Frederick J. & Jessica H. Kiko | Excelsus Technology.
20011915 | TriQuint Semiconductor, Inc. | Sawtek Inc. | Sawtek Inc.
20011932 | Rhodia | Brambles Industries Limited | Ensco Caribe, Inc.
|  |  | Ensco West, Inc.
|  |  | Ensco, Inc.
|  |  | Environmental Systems Company.
|  |  | MSE Environmental, Inc.
20012006 | Affiliated Computer Services, Inc. | Systems & Computer Technology Corporation | Omni-Tech Systems, Ltd.
|  |  | SGT Government Systems, Inc.
|  |  | SCT Property Inc.
20012008 | Klaus-Michael Kuehne | USCO Contract Logistics, LLC | USCO Contract Logistics, LLC.
20012009 | Klaus-Michael Kuehne | USCO Districution Services, Inc. | USCO Distribution Services, Inc.
20012018 | McGraw-Hill Companies, Inc. (The) | PricewaterhouseCoopers CVC Division | PricewaterhouseCoopers CVC Division.
20012019 | SCOR U.S. Corporation | Caisse Centrale des Assurances Muteuelles Agricoles | SOREMA N.A. Holding Corporation.
20012029 | Qwest Communications International Inc | Enron Corp. | JTS Co.
TRANSACTIONS GRANTED EARLY TERMINATION—06/29/2001
20011643 | Electronic Data Systems Corporation | Sabre Holdings Corporation | Sabre Inc.
TRANSACTIONS GRANTED EARLY TERMINATION—07/02/2001
20011776 | Northrop Grumman Corporation | Gencorp Inc. | Aerojet-General Corporation.
20011974 | SPX Corporation | Kendro Holdings, L.P. | Kendro Laboratory Products, L.P., Kendro Corporation.
20011999 | Tyco International Ltd. | Home Products International, Inc. | Home Products International-North America, Inc.
20012013 | Brian L. Roberts | The News Corporation, Limited | Outdoor Life Network, LLC.
20012030 | Albemarle Corporation | Chemfirst Inc. | ChemFirst Fine Chemicals, Inc.
|  |  | First Chemical Corporation.
20012032 | MCC Acquisition Holdings Corporation | CPI Development Corporation | Carter-Wallace, Inc.
|  |  | CPI Development Corporation.
20012035 | Cypress Merchant Banking Partners II L.P. | MCC Acquisition Holdings Corporation | MCC Acquisition Holdings Corporation.
20012036 | Carlyle Partners III, L.P. | MCC Acquisition Holdings corporation | MCC Acquisition Holdings Corporation.
20012037 | Warburg, Pincus Equity Partners, L.P. | Micro Therapeutics, Inc | Micro Therapeutics, Inc.
20012043 | Cheung Kong (Holdings) Limited | priceline.com. Incorporated | priceline.com. Incorporated.
20012044 | Hutchison Whampoa Limited | priceline.com Incorporated | priceline.com Incorporated.
20012054 | Warburg, Pincus Equity Partners, L.P. | The Cobalt Group, Inc. | The Cobalt Group, Inc.
20012058 | The St. Paul Companies | Barra, Inc. | Symphony asset Management LLC.
20012059 | The St. Paul Companies, Inc. | Maestro, LLC | Symphony asset Management LLC.
20012065 | Craig O. McCaw | Nextel Communications, Inc. | Nextel Communications, Inc.
TRANSACTIONS GRANTED EARLY TERMINATION—07/03/2001
20011944 | Universal Compression Holdings, Inc. | KCI, Inc. | KCI Compression Company, LP.
20012047 | Verizon Communications Inc. | Carolina PCS I Limited Partnership | Carolina PCS I Limited Partnership.
20012052 | Federated Department Stores, Inc. | Liberty House, Inc. | Liberty House, Inc.
20012063 | The Goldman Sachs Group, Inc. | Epoch Partners, Inc. | Epoch Partners, Inc.
TRANSACTIONS GRANTED EARLY TERMINATION—07/05/2001
20012033 | Church & Dwight Co., Inc. | CPI Development Corporation | Carter-Wallace, Inc.
TRANSACTIONS GRANTED EARLY TERMINATION—07/06/2001
20012051 | AdvancePCS | Dresing-Lieman, Inc. | Dresing-Lieman, Inc.

FOR FURTHER INFORMATION CONTACT: Sandra M. Peay or Parcellena P. Fielding, Contact Representatives, Federal Trade Commission, Premerger Notification Office Bureau of Competition, room 303, Washington, DC, 20580 (202) 326-3100.

By Direction of the Commission.
Donald S. Clark,
Secretary.

[FR Doc. 01-19341 Filed 8-1-01; 8:45 am]

BILLING CODE 6750-01-M